DEPARTMENT OF THE INTERIOR

National Park Service

Notice of Availability of Draft Director's Order Concerning National Park Service Policies and Procedures Governing Its Emergency Medical Services Program

AGENCY: National Park Service, Interior.

ACTION: Notice of availability.

SUMMARY: The National Park Service (NPS) has prepared a Director's Order setting forth its policies and procedures governing emergency medical services, training requirements, delivery and preparedness systems. When adopted, the policies and procedures will apply to all units of the National Park System, and will supersede and replace the policies and procedures issued in January 1991.

DATES: Written comments will be accepted until September 19, 2000.

ADDRESSES: Draft Director's Order #51 is available on the Internet at http://www.nps.gov/refdesk/DOrders/index.htm. Requests for copies and written comments should be sent to Ken Mabery, Staff Park Ranger MS7408, National Park Service, Department of Interior, 1849 C Street NW, Washington, DC 20240, or to his Internet address: ken_mabery_DC@nps.gov.

FOR FURTHER INFORMATION CONTACT: Ken Mabery at 202/208-6380.

SUPPLEMENTARY INFORMATION: The NPS is updating its current system of Internal written instructions. When these documents contain new policy or procedural requirements that may affect parties outside the NPS, they are first made available for public review and comment before being adopted. The policies and procedures governing emergency medical services management have previously been published in the form of guideline NPS-51. That guideline will be superseded by the new Director's Order #51 (and a reference manual that will be issued subsequent to the Director's Order). The draft Director's Order covers topics such as applicable authorities, relationships with other jurisdictions, quality improvement, program evaluation, needs assessment, training requirements, data keeping, prevention programs, program review, and preparedness. Director's Order 51 addresses only emergency medical services management; other emergency services (e.g., search and rescue, hazardous materials spills, and fire management), are addressed in other Director's Orders that are available on the Internet site listed above.

Individual respondents may request that we withhold their home address from the administrative record, which we will honor to the extent allowable by law. There also may be circumstances in which we would withhold from the record a respondent's identity, as allowable by law. If you wish us to withhold your name and/or address, you must state this prominently at the beginning of your comment.

Dated: August 7, 2000.
Chris Andress,
Chief, Ranger Activities Division.

[FR Doc. 00-21089 Filed 8-17-00; 8:45 am]

BILLING CODE 4310-70-P